NATIONAL ARCHIVES AND RECORDS ADMINISTRATION

[NARA-2015-053]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by August 17, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending

1. Department of Commerce, Bureau of the Census (DAA-0029-2015-0001, 20 items, 10 temporary items). Records of the American Community Survey Office, including data processing records, custom tabulations and table packages, and records documenting the development of questionnaires through interviews with respondents. Proposed for permanent retention are unedited and edited master files, summary files, questionnaires, and formally issued reports and working papers.

2. Department of Commerce, Bureau of the Census (DAA-0029-2015-0002, 3 items, 1 temporary item). Records of the Center for Statistical Research and Methodology relating to clearance of research papers for internet posting. Proposed for permanent retention are annual reports and research reports for statistics and computing.

3. Department of Defense, Defense Logistics Agency (DAA-0361-2015-0002, 19 items 19 temporary items). Records of activities that use non-appropriated funds including organization, accounts, inventories, and personnel.

4. Department of Defense, Defense Threat Reduction Agency (DAA-0374-2014-0026, 1 item, 1 temporary item). Records relating to the appointment of agency transportation officers.

5. Department of Defense, Defense Threat Reduction Agency (DAA-0374-2014-0032, 1 item, 1 temporary item). Records relating to ratings for contracts and contractors.

6. Department of Homeland Security, Transportation Security Administration (DAA-0560-2013-0002, 1 item, 1 temporary item). Master files of an electronic information system used to track compliance with environmental management regulations.

7. Department of the Navy, United States Marine Corps (DAA-0127-2014-0006, 1 item, 1 temporary item). Master files of an electronic information system containing vehicle maintenance and repair manuals.

8. Department of State, Office of the Chief of Protocol (DAA-0059-2014-0006, 3 items, 1 temporary item). Records of the Chief and Deputy Chiefs of Protocol relating to events, execution of ceremonies, and related travel. Proposed for permanent retention are correspondence and approval records for the planning of events, ceremonies, and travel, and paper program records prior to 2013.

9. Department of Transportation, Federal Highway Administration (DAA-0406-2013-0002, 2 items, 2 temporary items). Tolling agreements and program files.

10. Department of Transportation, Federal Railroad Administration (DAA-0399-2014-0002, 1 item, 1 temporary item). Master files of an electronic information system used to track and maintain incoming correspondence.

11. Department of Transportation, Federal Transit Administration (DAA-0408-2013-0007, 2 items, 2 temporary items). Equal employment opportunity records.

12. Consumer Financial Protection Bureau, Division of Consumer Education and Engagement (DAA-0587-2014-0006, 24 items, 19 temporary items). Records include administrative reports, research, and training materials. Proposed for permanent retention are final reports, decision memorandums, and publications.

13. Privacy and Civil Liberties Oversight Board, Agency-wide (DAA-0595-2015-0001, 5 items, 3 temporary items). Records include administrative files and other supporting records for operations and management. Proposed for permanent retention are correspondence, policy records, meeting records, final board decisions and actions, organization charts, and press releases.

Dated: July 14, 2015.
Paul M. Wester, Jr.,
Chief Records Officer for the U.S. Government.

[FR Doc. 2015-17631 Filed 7-16-15; 8:45 am]

BILLING CODE 7515-01-P